DEPARTMENT OF TRANSPORTATION

Surface Transportation Board

[Docket No. FD 35865]

The Baltimore and Ohio Chicago Terminal Railroad Company—Joint Use Exemption—Indiana Harbor Belt Railroad Company

AGENCY: Surface Transportation Board, DOT.

ACTION: Notice of exemption.

SUMMARY: By decision served November 19, 2014, the Board is granting an exemption under 49 U.S.C. 10502 from the prior approval requirements of 49 U.S.C. 11323-25 for The Baltimore and Ohio Chicago Terminal Railroad Company (BOCT) and Indiana Harbor Belt Railroad Company (IHB) to modify a joint use agreement that would give BOCT dispatching responsibility over approximately 483 feet of track between Blue Island Junction Eastward Absolute Signal, milepost DIH 15.2, and the Westward Absolute Signal at CP Francisco (CP 154), milepost 15.3, near Blue Island Junction, Ill.

DATES: This exemption is effective on November 19, 2014. Petitions to reopen must be filed by December 9, 2014.

ADDRESSES: An original and 10 copies of all pleadings, referring to Docket No. FD 35865, must be filed with the Surface Transportation Board, 395 E Street SW., Washington, DC 20423-0001. In addition, a copy of each pleading must be served on Louis E. Gitomer, Law Offices of Louis E. Gitomer, 600 Baltimore Avenue, Suite 301, Towson, MD 21204.

FOR FURTHER INFORMATION CONTACT: Valerie Quinn, (202) 245-0382. Assistance for the hearing impaired is available through the Federal Information Relay Service (FIRS) at (800) 877-8339.

SUPPLEMENTARY INFORMATION: Additional information is contained in the Board's decision served November 19, 2014, which is available on our Web site at www.stb.dot.gov.

Decided: November 18, 2014.
By the Board, Chairman Elliott, Vice Chairman Miller, and Commissioner Begeman.
Raina S. White,
Clearance Clerk.

[FR Doc. 2014-27763 Filed 11-21-14; 8:45 am]

BILLING CODE 4915-01-P